DEPARTMENT OF THE TREASURY

RIN 1505-AA87

Financial Crimes Enforcement Network; Agency Information Collection Activities; Proposed Collection; Correction

AGENCY: Financial Crimes Enforcement Network (FinCEN), Treasury.

ACTION: Notice and request for comments; correction.

SUMMARY: FinCEN published in the Federal Register of December 20, 2004, a document (69 FR 76033) inviting comment on an information collection relating to correspondent accounts for foreign banks and foreign shell banks. The document contained a typographical error related to the OMB Control Number.

DATES: This correction is effective December 20, 2004.

FOR FURTHER INFORMATION CONTACT: Office of the Chief Counsel (FinCEN), (703) 905-3590 (not a toll-free number).

SUPPLEMENTARY INFORMATION:

Background

The notice and request for comments that is the subject of these corrections relates to 31 CFR 103.177.

Need for Correction

As published, the notice and request for comments contains errors that may prove to be misleading and are in need of clarification.

Correction of Publication

In the notice and request for comments FR Doc. 04-27747, published on December 20, 2004 (69 FR 76033), make the following corrections.

On page 76034, in column 2, correct line 17 by removing the words “OMB Number: 1505-AA87” and adding in their place the words “OMB Number: 1505-0184”, and on page 76034, in column 2, correct footnote 1 by removing the words “OMB Control Number 1505-AA87” and adding in their place “OMB Control Number 1505-0184''.

Dated: December 29, 2004.
Cynthia L. Clark,
Deputy Chief Counsel, Financial Crimes Enforcement Network, Federal Register Liaison.

[FR Doc. 05-297 Filed 1-6-05; 8:45 am]

BILLING CODE 4810-02-P